DEPARTMENT OF ENERGY

Federal Energy Regulatory Commission

Combined Notice of Filings #1

Take notice that the Commission received the following electric rate filings:

Docket Numbers: ER16-1202-001.

Applicants: The Energy Group of America, Inc.

Description: Tariff Amendment: Amendment to MBR Application to be effective 5/15/2016.

Filed Date: 4/19/16.

Accession Number: 20160419-5049.

Comments Due: 5 p.m. ET 5/10/16.

Docket Numbers: ER16-1452-000.

Applicants: Wabash Valley Power Association, Inc.

Description: § 205(d) Rate Filing: Amendments to Rate Schedule—Citizens Electric Corporation to be effective 6/17/2016.

Filed Date: 4/18/16.

Accession Number: 20160418-5259.

Comments Due: 5 p.m. ET 5/9/16.

Docket Numbers: ER16-1453-000.

Applicants: Southern California Edison Company.

Description: § 205(d) Rate Filing: 2016 Revised Added Facilities Rate under WDAT—Filing No. 7 to be effective 1/1/2016.

Filed Date: 4/18/16.

Accession Number: 20160418-5261.

Comments Due: 5 p.m. ET 5/9/16.

Docket Numbers: ER16-1454-000.

Applicants: Southern California Edison Company.

Description: § 205(d) Rate Filing: 2016 Revised Added Facilities Rate under WDAT—Filing No. 8 to be effective 1/1/2016.

Filed Date: 4/18/16.

Accession Number: 20160418-5270.

Comments Due: 5 p.m. ET 5/9/16.

Docket Numbers: ER16-1455-000.

Applicants: Public Service Company of Colorado.

Description: § 205(d) Rate Filing: PSCo-IREA-Bergen Park E&P Agrmt Filing to be effective 4/20/2016.

Filed Date: 4/19/16.

Accession Number: 20160419-5087.

Comments Due: 5 p.m. ET 5/10/16.

Docket Numbers: ER16-1456-000.

Applicants: Talen Energy Marketing, LLC.

Description: § 205(d) Rate Filing: Reactive Revenue Rate Schedule and Request for Confidential Treatment to be effective 7/1/2016.

Filed Date: 4/19/16.

Accession Number: 20160419-5100.

Comments Due: 5 p.m. ET 5/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2016.
Nathaniel J. Davis, Sr.,
Deputy Secretary.

[FR Doc. 2016-09477 Filed 4-22-16; 8:45 am]

BILLING CODE 6717-01-P